DEPARTMENT OF COMMERCE

National Oceanic and Atmospheric Administration

RIN 0648-XG671

U.S. Stakeholder Meeting on Pacific Bluefin Tuna Long-Term Management Framework; Meeting Announcement

AGENCY: National Marine Fisheries Service (NMFS), National Oceanic and Atmospheric Administration (NOAA), Commerce.

ACTION: Notice of public meeting; reschedule meeting.

SUMMARY: NMFS is holding a meeting to discuss the future of the U.S. West Coast Pacific bluefin tuna (PBF) fishery, including objectives and a management framework. NMFS initially scheduled this meeting for January 9, 2019, but due to the partial lapse in appropriations was unable to hold the meeting on that date. NMFS is announcing that the meeting has been rescheduled for May 2, 2019.

DATES: The meeting will be held May 2, 2019, from 9:00 a.m. to 4:00 p.m. PST, or until business concludes.

ADDRESSES: The meeting will be held in Room 3300 at the Glenn M. Anderson Federal Building, 501 W Ocean Blvd., Long Beach, California 90802. Please notify Celia Barroso, at Celia.Barroso@noaa.gov or (562) 432-1850, by April 25, 2019, if you plan to attend. NMFS will email instructions and background materials for the meeting participants.

FOR FURTHER INFORMATION CONTACT: Celia Barroso, West Coast Region, NMFS, at Celia.Barroso@noaa.gov, or at (562) 432-1850.

SUPPLEMENTARY INFORMATION: NMFS intended to host a stakeholder meeting to discuss the future of the U.S. West Coast PBF fishery, including objectives and a management framework on January 9, 2019, (83 FR 65638, December 21, 2018) but due to the partial lapse in appropriations was unable to hold the meeting. This notice announces that the meeting has been rescheduled to May 2, 2019.

Stakeholders have expressed an interest in developing management objectives and a long-term management framework for PBF. In September 2018, the Pacific Fishery Management Council (PFMC) recommended that its Highly Migratory Species Management Team develop a long-term management strategy for PBF (See the PFMC's “September 2018 Summary Decision” at https://www.pcouncil.org/wp-content/uploads/2018/09/0918_Decision_Summary_DocumentV2.pdf). During the stakeholder meeting rescheduled for May 2, 2019, NMFS will briefly review the current status of the stock and current management regime. NMFS will also solicit input from participants on potential management objectives, and strategies to achieve those objectives for the domestic PBF fishery.

PBF U.S. Stakeholder Meeting Topics

The PBF U.S. stakeholder meeting topics will include, but are not limited to, the following:

(1) An overview of international management PBF and management of the U.S. PBF fishery;

(2) Potential domestic management objectives; and,

(3) Potential domestic management strategies.

Special Accommodations

The meeting location is physically accessible to people with disabilities. Requests for sign language interpretation or other auxiliary aids should be directed to Celia Barroso, at Celia.Barroso@noaa.gov or (562) 432-1850, by April 22, 2019.

Authority: 16 U.S.C. 951 et seq., 16 U.S.C. 1801 et seq., 16 U.S.C. 6901 et seq.

Dated: April 9, 2019.
Jennifer M. Wallace,
Acting Director, Office of Sustainable Fisheries, National Marine Fisheries Service.

[FR Doc. 2019-07311 Filed 4-11-19; 8:45 am]

BILLING CODE 3510-22-P